OFFICE OF PERSONNEL MANAGEMENT

Proposed Collection; Comment Request for a Revised Information Collection: Mail Reinterview Form (INV10)—Previously the Ofi 10, OMB No. 3206-0106

AGENCY: U.S. Office of Personnel Management.

ACTION: Notice.

SUMMARY: In accordance with the Paperwork Reduction Act of 1995 (Pub. L. 104-13, May 22, 1995), this notice announces that the U.S. Office of Personnel Management (OPM) intends to submit to the Office of Management and Budget (OMB) a request for clearance of a revised information collection. OPM sends the INV 10 questionnaire to a random sampling of record and personal sources contacted during background investigations when investigators have performed fieldwork. The INV 10 is used as a quality control instrument designed to ensure the accuracy and integrity of the investigative product, as it inquires of the sources about the investigative procedure employed by the investigator, the investigator's professionalism, and the information discussed and reported. In addition to the pre-formatted response options, OPM invites the recipients to respond with any other relevant comments or suggestions. A postage-paid envelope is provided with the INV 10.

Comments are particularly invited on:

• Whether this collection of information is necessary for the proper performance of functions of the Office of Personnel Management and its Center for Federal Investigative Services, which administers its background investigations;

• Whether our estimate of the public burden of this collection is accurate, and based on valid assumptions and methodology;

• Ways in which we can minimize the burden of the collection of information on those who are asked to respond, through the use of the appropriate technological collection techniques or other forms of information technology; and,

• Whether the reinterview questionnaire addresses all of the questions relevant to ensure the accuracy and integrity of the investigative product.

It is estimated that 9,600 INV 10 forms are sent to individual sources annually. Of those, it is estimated that 5,600 individuals will respond. Each form takes approximately 6 minutes to complete. The estimated annual burden is 560 hours.

For copies of this proposal, contact Mary Beth Smith-Toomey on (202) 606-8358, Fax (202) 418-3251 or e-mail to mbtoomey@opm.gov. Please be sure to include a mailing address with your request.

DATES: Comments on this proposal should be received within 60 calendar days from the date of this publication.

ADDRESSES: Send or deliver comments to: Kathy Dillaman, Associate Director, Federal Investigative Services Division, U.S. Office of Personnel Management, 1900 E Street, NW., Room 5416, Washington, DC 20415.

For Information Regarding Administrative Coordination—Contact: Mary-Kay Brewer, Program Analyst, Operational Policy Group, Federal Investigative Services Division, U.S. Office of Personnel Management, (202) 606-1835.

U.S. Office of Personnel Management.
Howard Weizmann,
Deputy Director.

[FR Doc. E8-13846 Filed 6-18-08; 8:45 am]

BILLING CODE 6325-38-P